DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. Their applications have been separated from the new application for special permits to facilitate processing.

DATES: Comments must be received on or before August 7, 2008.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue SE., Washington, DC or at http://dms.dot.gov.

This notice of receipt of applications for modification of special permits is published in accordance with Part 107 of the Federal hazardous materials transportation law (49 U.S.C. 5117(b); 49 CFR 1.53(b)).

Issued in Washington, DC, on July 10, 2008.
Delmer F. Billings,
Director, Office of Hazardous Materials, Special Permits and Approvals.

Modification Special Permits

Application number | Docket number | Applicant | Regulation(s) affected | Nature of special permit thereof
9266-M |  | Eurotainer SA 92817 Puteaux Cedex | 49 CFR 173.315; 178.245 | To modify the special permit to authorize the transportation in commerce of an additional Division 2.2 hazardous material.
11834-M | RSPA-97-2131 | Ashland, Inc. Columbus, OH | 49 CFR 173.173; 173.202 | To modify the special permit to authorize the transportation in commerce of additional Class 3 and Division 5.2 materials.
12116-M | RSPA-98-4243 | Proserv UK Limited (Former Grantee: Proserv (North Sea), Ltd.) Aberdeen, Scotland | 49 CFR 178.36 | To modify the special permit to authorize a ceramic coating to be applied to certain cylinders.
12844-M | RSPA-01-10753 | Delphi Corporation Vandalia, OH | 49 CFR 173.301(a)(1); 173.302a(a)(1);175.3 | To modify the special permit to allow failures in endcaps in units that are built specifically for hydroburst testing.
13133-M | RSPA-02-13796 | Department of Energy Albuquerque, NM | 49 CFR 172.320; 173.54(a); 173.56(b); 173.57; 173.58; 173.62 | To modify the special permit to remove the sample limitation.
14488-M |  | Sanofi Pasteur Swiftwater, PA | 49 CFR 173.24(b)(1) | To reissue the special permit originally issued on an emergency basis for the transportation in commerce of an influenza vaccine in a custom stainless steel batch reactor and to allow for renewal.
14632-M | PHMSA-08-003 1 | Kalitta Charters II, LLC Ypsilanti, MI | 49 CFR 172.101 Column (9B); 172.204(c)(3); 173.27(b)(2)(3); 175.30 | To reissue the special permit originally issued on an emergency basis for the transportation in commerce by cargo only aircraft of Class 1 explosives which are forbidden or exceed quantities presently authorized.
14656-M |  | PurePak Technology Corporation Chandler, AZ | 49 CFR 173.158(f)(3) | To modify the special permit to authorize a smaller outer packaging.

[FR Doc. E8-16443 Filed 7-22-08; 8:45 am]

BILLING CODE 4909-60-M